DEPARTMENT OF AGRICULTURE

Forest Service

Plumas National Forest; California; Stream Fire Restoration Project

AGENCY: Forest Service, USDA.

ACTION: Notice of Intent to prepare an Environmental Impact Statement.

SUMMARY: The USDA, Forest Service, Plumas National Forest will prepare an Environmental Impact Statement (EIS) on a proposal to treat fuels on approximately 2,300 acres in the Stream Fire burned area. The Stream Fire burned 3,483 acres in July and August 2001, on the Plumas National Forest. The proposed action would implement long-term restoration of ecosystem function and reduce future fire severity. Reducing the risk of another stand replacing fire involves a combination of recurring fuel treatments to modify fire behavior and effective suppression. The proposed action would treat dead trees on approximately 2265 acres using the following methods: whole tree removal utilizing ground based, skyline, or helicopter logging methods, handpiling and burning of the piles, contour felling, and/or lopping/scattering of slash. Live and dead conifer trees less than 6 inches in diameter would be felled, handpiled and the piles burned on approximately 35 acres. Approximately 7 acres of helicopter landings would be constructed. Approximately 4 miles of temporary road would be constructed. Following completion of the project, the temporary roads would be closed and reforested. Approximately 1 mile of roads that were opened for fire suppression activities would be closed. Approximately 2300 acres would be reforested. The land allocations for the fire areas are Old Forest Emphasis, General Forest, and Threat Zone of the Urban Wildland Intermix.

The proposed action is designed to meet the standards and guidelines for land management activities depicted in the Plumas National Forest Land and Resource Management Plan (1988) as amended by the Record of Decision for the Herger-Feinstein Quincy Library Group Forest Recovery Act (1999), and as amended by the Record of Decision for the Sierra Nevada Forest Plan Amendment (2001).

The proposed project is located in Plumas County, California, within the Mt. Hough Ranger District of the Plumas National Forest in all or portions of Sections 15, 16, 20, 21, 22, 25, 26, 27, 28, and 29 of T27N, R12E., MDM.

ADDRESSES: Send written comments to Terri Simon-Jackson, Mt. Hough District Ranger, 29696 Highway 70, Quincy CA 95971.

FOR FURTHER INFORMATION CONTACT: Rich Bednarski, Interdisciplinary Team Leader, telephone: (530) 283-7641.

SUPPLEMENTARY INFORMATION:

Decision To Be Made

The decision to be made is whether to: (1) Implement the proposed action; (2) meet the purpose and need for action through some other combination of activities; or (3) take no action at this time.

Responsible Official and Lead Agency

The USDA Forest Service is the lead agency for this proposal. Mt. Hough District Ranger Terri Simon-Jackson is the responsible official.

Tentative or Preliminary Issues and Possible Alternatives

In October 2001, the Mt. Hough District Ranger solicited public comment for the Stream Fire Salvage and Reforestation proposed action. Comments that were received from that process will be considered in this analysis. Controversy and uncertainty regarding post fire treatments have prompted the preparation of an Environmental Impact Statement (EIS). Other alternatives may be developed based on significant issues identified during the scoping process for this EIS. All alternatives will need to respond to the specific condition of providing benefits equal to or better than the current condition. Alternatives being considered at this time include: (1) The Proposed Action and (2) No Action.

Public participation is especially important at several points during the analysis. The Forest Service will be seeking information, comments, and assistance from Federal, State, and local agencies and other individuals or organizations that may be interested in or affected by the proposed action. To facilitate public participation, information about the proposed action is listed in the Plumas National Forest Quarterly Schedule of Proposed Actions; will be mailed to all who have expressed interest in the proposed action; and notification of the public scoping period will be published in the Feather River Bulletin, Quincy, CA.

Comments received during the scoping process should be in writing and should be specific to the proposed action. The comments should describe as clearly and completely as possible any issues the commenter has with the proposal. The scoping process includes:

(a) Identifying potential issues;

(b) Identifying issues to be analyzed in depth;

(c) Eliminating non-significant issues or those previously covered by a relevant environmental analysis;

(d) Exploring additional alternatives;

(e) Identifying potential environmental effects of the proposed action and alternatives.

Dates

Comments concerning the scope of the analysis should be received in writing on or before September 6, 2002.

Identification of Permits or Licenses Required

An Air Pollution Permit and a Smoke Management Plan are required by local agencies.

Estimated Dates for Filing

The draft EIS is expected to be filed with the Environmental Protection Agency and available for public review in November 2002. The comment period on the draft EIS will be 45 days from the date the Environmental Protection Agency publishes the notice of availability of the draft EIS in the Federal Register. At that time, copies of the draft EIS will be distributed to interested and affected agencies, organizations, and members of the public for review and comment. It is very important that those interested in the management of the Plumas National Forest participate at that time.

The Reviewer's Obligation To Comment

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulation of implementing the procedural provisions of the National Environmental Policy Act at 40 CFR 1503.3 in addressing these points.

Dated: August 5, 2002.
Robert G. MacWhorter,
Acting Forest Supervisor.

[FR Doc. 02-20155 Filed 8-8-02; 8:45 am]

BILLING CODE 3410-11-M